NUCLEAR REGULATORY COMMISSION

[NRC-2023-0096]

Draft NUREG: Revision to Subsequent License Renewal Guidance Documents, and Supplement to Associated Technical Bases Document

AGENCY: Nuclear Regulatory Commission.

ACTION: Draft report; extension of comment period.

SUMMARY: On July 11, 2023, the U.S. Nuclear Regulatory Commission (NRC) solicited comments on three draft documents that provide revised guidance for subsequent license renewal (SLR) and the associated technical bases for the revised guidance documents. The draft regulatory guidance documents consist of draft NUREG-2191, “Generic Aging Lessons Learned for Subsequent License Renewal Report,” Volumes 1 and 2, Revision 1 (GALL-SLR Report); draft NUREG-2192, “Standard Review Plan for Review of Subsequent License Renewal Applications for Nuclear Power Plants,” Revision 1 (SRP-SLR); and draft NUREG-2221, “Technical Bases for Changes in the Subsequent License Renewal Guidance Documents, NUREG-2191, Revision 1, and NUREG-2192, Revision 1,” Supplement 1. The public comment period was originally scheduled to close on September 11, 2023. The NRC has decided to extend the public comment period to allow more time for members of the public to prepare and submit their comments.

DATES: The September 11, 2023, due date for comments on the draft regulatory guidance documents, published on July 11, 2023 (88 FR 44160), is extended. Comments should be filed no later than October 11, 2023. Comments received after this date will be considered, if it is practical to do so, but the Commission is able to ensure consideration only for comments received on or before this date.

ADDRESSES: Please refer to Docket ID NRC-2023-0096 when contacting the NRC about the availability of information regarding this document. You may obtain publicly available information related to this document using any of the following methods:

• Federal Rulemaking website: Go to https://www.regulations.gov and search for Docket ID NRC-2023-0096. Address questions about Docket IDs in Regulations.gov to Stacy Schumann; telephone: 301-415-0624; email: Stacy.Schumann@nrc.gov. For technical questions, contact the individuals listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Emmanuel Sayoc, telephone: 301-415-4084; email: Emmanuel.Sayoc@nrc.gov or Carol Moyer, telephone: 301-415-2153; email: Carol.Moyer@nrc.gov. Both are staff of the Office of Nuclear Reactor Regulation at the U.S. Nuclear Regulatory Commission, Washington, DC 20555-0001.

SUPPLEMENTARY INFORMATION: On July 11, 2023, the NRC published a notice in the Federal Register (88 FR 44160) affording members of the public an opportunity to submit comments on three draft documents that provide revised regulatory guidance for subsequent license renewal and the associated technical bases for the revised guidance documents. The public comment period was originally scheduled to close on September 11, 2023. By letter dated August 25, 2023, (ADAMS Accession No. ML23242A214), the Nuclear Energy Institute requested a 30-day extension of the comment period. For good cause shown, the NRC has decided to extend the public comment period by 30 days to allow more time for members of the public to prepare and submit their comments on the draft guidance documents. Comments should be filed no later than October 11, 2023.

Dated: September 1, 2023.
For the Nuclear Regulatory Commission.
Michelle W. Hayes,
Chief, Licensing and Regulatory Infrastructure Branch, Division of New and Renewed Licenses, Office of Nuclear Reactor Regulation.

[FR Doc. 2023-19299 Filed 9-6-23; 8:45 am]

BILLING CODE 7590-01-P